FEDERAL COMMUNICATIONS COMMISSION

47 CFR Part 52

[WC Docket No. 07-244; CC Docket Nos. 95-116, 99-200; DA 14-842]

Local Number Portability Porting Interval and Validation Requirements; Telephone Number Portability; Numbering Resource Optimization

AGENCY: Federal Communications Commission.

ACTION: Final rule.

SUMMARY: In this document, the Federal Communications Commission (Commission) adopted several recommendations of the North American Numbering Council (NANC) pertaining to local number portability (LNP). Also, the Commission clarified that, notwithstanding the NANC's preference for area code overlays over area code splits, the states still have the option to choose the best means of implementing area code relief for their citizens.

DATES: Effective June 25, 2015.

FOR FURTHER INFORMATION CONTACT: Sanford Williams, Wireline Competition Bureau, Competition Policy Division, (202) 418-1580, or send an email to sanford.williams@fcc.gov.

SUPPLEMENTARY INFORMATION: This is a summary of the Commission's Order in WC Docket No. 07-244; CC Docket Nos. 95-116, 99-200; DA 14-482 adopted and released on June 20, 2014. The full text of this document is available for public inspection during regular business hours in the FCC Reference Information Center, Portals II, 445 12th Street SW., Room CY-A257, Washington, DC 20554. It is available on the Commission's Web site at http://www.fcc.gov.

I. Order

1. In this Order, we adopt several recommendations of the NANC, a federal advisory committee for telephone number administration, pertaining to LNP. The Communications Act defines number portability as “the ability of users of telecommunications services to retain, at the same location, existing telecommunications numbers without impairment of quality, reliability, or convenience when switching from one telecommunications carrier to another. This means that customers have the ability to keep their telephone numbers if they change service providers, with a few exceptions. This process is called telephone number “porting.” These recommendations all involve changes to the LNP “provisioning flows” and are intended to improve the telephone number porting process. Telephone number porting is accomplished by the old and new service providers working together and following a uniform set of flow charts, referred to as the “LNP provisioning flows.” These flows consist of diagrams and accompanying narratives which explain the processes service providers follow in specific porting scenarios. The recommendations addressed in this Order are changes to the narratives that accompany the diagrams.

2. These improvements include revising existing processes for cancelling a number port request, clarifying the timeline for re-using disconnected ported numbers, and stopping new service providers from prematurely activating ports. Also in this Order, we clarify that, notwithstanding the NANC's preference for area code overlays over area code splits, the states still have the option to choose the best means of implementing area code relief for their citizens. An area code “split” occurs when the geographic area served by an area code is divided into two or more geographic parts. An area code overlay occurs when a new area code is introduced to serve the same geographic area as one or more existing area codes. In both scenarios, callers must dial a ten-digit telephone number (three-digit area code, plus seven-digit number) to reach end users.

II. Background

3. In May 2010, the Commission adopted various provisioning flows in its LNP Standard Fields Order. However, the Commission recognized that industry developments would likely require changes to these flows. It also acknowledged that “the NANC is best situated to monitor the continued effectiveness of the provisioning process flows, and make recommendations when changes are needed.” Thus, the Commission decided that the provisioning flows adopted in that order would remain in effect until the Commission approves revised provisioning flows based on recommendations from the NANC. The Commission delegated authority to the Chief of the Wireline Competition Bureau (Bureau) to approve such recommended revisions and directed the NANC to make the revised provisioning flows, once approved, available to the public on the NANC Web site.

4. Flows for Cancellations and Disconnections. On January 2, 2013, the NANC submitted a letter to the Bureau recommending revisions to the provisioning flows for port cancellations, termed by the NANC as the “Cancel Flows.” These flows apply when a customer asks a new service provider to port his or her number, and then subsequently decides to cancel that request and remain with his or her current provider. The customer must notify one of the providers of the cancellation. The NANC recommended three revisions to these flows. The first revision clarifies the responsibilities of the current and new service providers. It states that if the customer contacts the current provider, that provider may choose to advise the customer to call the new provider to cancel the port request. If the customer contacts the new provider, that provider must cancel the port. The second revision states that if the current provider decides to cancel the port request, it must obtain verifiable authority from the customer, such as a Letter of Authorization, dated after the initial port request. The new provider must then process the cancellation request, even if the current provider does not provide an actual copy of the authorization. The third revision outlines the different steps to be taken to notify the new provider of the cancellation, depending on whether the current provider is a wireline or a wireless provider.

5. In its January 2013 letter, the NANC also recommended deleting language in the flow entitled “Disconnect Process for Ported Telephone Numbers.” That flow applies to “aging numbers,” defined by section 52.15(f)(ii) of the Commission's rules as “disconnected numbers that are not available for assignment to another customer for a specified period of time.” The language to be deleted reads, “[t]he maximum interval between disconnect date and effective release is 18 months.” The NANC proposes to delete this language because it is inconsistent with section 52.15(f)(ii) of the Commission's rules, which provides that a service provider may not “age” disconnected residential numbers for more than 90 days and disconnected business numbers for more than 365 days.

6. The Bureau sought comment on these NANC recommendations in May 2013. In response, the Commission received comments from CenturyLink supporting the NANC's recommended revisions to these flows. No commenter opposed the recommendations.

7. Flows and Premature Activation of Ports. On October 17 and October 28, 2013, the NANC submitted letters requesting that the Commission accept Best Practice 65, which provides that both service providers involved in a port must agree to any changes to the original due date for that port. According to the NANC letters, there is a perceived loophole in the current flows that prompts some new service providers to activate ports hours or days before the agreed-to porting date and before the old service providers have their networks ready to port a number out. These premature port activations can disrupt customers' service. The NANC believes it is important that current and new service providers coordinate when activating a port, to avoid service disruptions. By Best Practice 65, and corresponding provisioning flows, the NANC intends to close the perceived loophole and stop premature activation of ports.

8. The Bureau sought comment in December 2013 on the NANC's request to accept Best Practice 65 and the corresponding provisioning flows. The Commission received comments from CenturyLink and AT&T supporting the Best Practice and the corresponding flows, and received no opposition to either.

A. Area Code Relief and Number Porting

9. In its October 17, 2013 letter, the NANC also recommends approval of Best Practice 30, which calls for “All-Services Area Code (NPA) Overlays,” rather than area code splits, as the best solution for area code relief. The NANC states that “NPA Overlays have both practical and technical positive implications for customers and service providers alike.” The letter and accompanying attachment explain that an overlay avoids the need to synchronize old and new area codes in the LNP database to ensure that port requests are completed on time and are not misrouted. The NANC notes that area code overlays treat all customers the same, allowing them to retain their existing area codes and telephone numbers.

10. The Bureau sought comment on Best Practice 30 in December 2013, along with Best Practice 65. CenturyLink and AT&T support Best Practice 30. Three state agencies express concern about making area code overlays mandatory. The state agencies contend that states have the greatest expertise regarding the issues facing their citizens and should continue to have autonomy to decide whether an area code split or an overlay is more appropriate.

III. Discussion

A. LNP Provisioning Flows

11. We conclude that all of the NANC's proposed revisions to the provisioning flows will improve the number porting process for service providers and their customers. The flow revisions clarifying the process for cancelling port requests will improve communications between service providers, and will ensure that port cancellation requests are handled properly and without customer inconvenience. The change to the disconnection flow will make the disconnection process consistent with Commission rules on aging disconnected telephone numbers, lessening service provider and customer confusion. Also, Best Practice 65 and the corresponding provisioning flows will ensure that service providers are in sync when activating a port, thus avoiding disruption of service to customers. Therefore, pursuant to the Commission's authority over telephone number administration and porting, and the authority delegated to the Bureau by the full Commission, we adopt the NANC's recommended changes to the LNP provisioning flows and require the industry to adhere to them. Pursuant to the Commission's 2010 LNP Standard Fields Order, we direct the NANC to make these revised provisioning flows available to the public through the NANC's Web site.

B. Area Code Relief and Number Porting

12. The NANC's Local Number Portability Administration (LNPA) Working Group has created many Best Practices to facilitate porting between service providers. The Bureau appreciates and commends those efforts to improve the number porting process. However, we do not, in this Order, adopt and codify Best Practice 30. And, we make clear that unless the Commission specifically adopts and codifies a Best Practice, it is not mandatory. Section 52.19(a) of the Commission's rules gives state commissions the discretion to decide how to introduce new area codes within their states. Therefore, the states still have the option to choose between an area code split or overlay in determining the best way to implement area code relief for their citizens.

IV. Procedural Matters

A. Paperwork Reduction Act of 1995 Analysis

13. This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

B. Congressional Review Act

14. The Commission will send a copy of the Order on Reconsideration in a report to be sent to Congress and the Government Accountability Office pursuant to the Congressional Review Act, see 5 U.S.C. 801(a)(1)(A).

C. Accessible Formats

15. To request materials in accessible formats for people with disabilities (braille, large print, electronic files, audio format), send an email to fcc504@fcc.gov or call the Consumer & Governmental Affairs Bureau at 202-418-0530 (voice), 202-418-0432 (tty). Contact the FCC to request reasonable accommodations for filing comments (accessible format documents, sign language interpreters, CARTS, etc.) by email: FCC504@fcc.gov; phone: (202) 418-0530 (voice), (202) 418-0432 (TTY).

V. Ordering Clauses

16. Accordingly, it is ordered that, pursuant to sections 1, 4(i)-4(j), 5, 251, and 303(r) of the Communications Act of 1934, as amended, 47 U.S.C. 151, 154(i)-(j), 155, 251, 303(r), this Order approving the North American Numbering Council's recommendation to revise the “Cancel Flows” in the Local Number Portability Provisioning Flows, WC Docket No. 07-244, CC Docket Nos. 95-116 and 99-200, is adopted.

17. It is further ordered that, pursuant to sections 1, 4(i)-4(j), 5, 251, and 303(r) of the Communications Act of 1934, as amended, 47 U.S.C. 151, 154(i)-(j), 155, 251, 303(r), this Order approving the North American Numbering Council's recommendation to revise the “Disconnect Process for Ported Telephone Numbers” in the Local Number Portability Provisioning Flows, WC Docket No. 07-244, CC Docket Nos. 95-116 and 99-200, is adopted.

18. It is further ordered that, pursuant to sections 1, 4(i)-4(j), 5, 251, and 303(r) of the Communications Act of 1934, as amended, 47 U.S.C. 151, 154(i)-(j), 155, 251, 303(r), this Order approving the North American Numbering Council's recommendation to accept Best Practice 65 and the corresponding revisions to the Local Number Portability Provisioning flows, and denying the North American Numbering Council's recommendation to accept Best Practice 30, WC Docket No. 07-244, CC Docket Nos. 95-116 and 99-200, is adopted.

19. It is further ordered that this Order shall become effective 30 days after publication in the Federal Register.

Federal Communications Commission.
Sanford S. Williams,
Assistant Chief, Competition Policy Division, Wireline Competition Bureau.

[FR Doc. 2015-12633 Filed 5-22-15; 8:45 am]

BILLING CODE 6712-01-P